DEPARTMENT OF ENERGY

Federal Energy Regulatory Commission

Combined Notice of Filings #1

Take notice that the Commission received the following electric corporate filings:

Docket Numbers: EC14-146-000.

Applicants: Ameren Illinois Company.

Description: Request For Approvals Pursuant To Sections 203 Of The Federal Power Act And Request For Expedited Consideration And a Shortened Notice Period.

Filed Date: 9/17/14.

Accession Number: 20140917-5117.

Comments Due: 5 p.m. ET 10/8/14.

Take notice that the Commission received the following electric rate filings:

Docket Numbers: ER11-3417-005.

Applicants: Alta Wind VIII, LLC, Bear Swamp Power Company LLC, Black Bear Development Holdings, LLC, Black Bear Hydro Partners LLC, Black Bear SO, LLC, Brookfield Energy Marketing Inc., Brookfield Energy Marketing LP, Brookfield Energy Marketing US LLC, Brookfield Power Piney & Deep Creek LLC, Brookfield Renewable Energy Marketing US, Brookfield Smoky Mountain Hydropower LLC, Brookfield White Pine Hydro LLC, Carr Street Generating Station, L.P., Coram California Development, L.P., Erie Boulevard Hydropower, L.P., Granite Reliable Power, LLC, Great Lakes Hydro America, LLC, Hawks Nest Hydro LLC, Mesa Wind Power Corporation, Rumford Falls Hydro LLC, Windstar Energy, LLC.

Description: Supplement to February 20, 2014 Notice of Change in Status of the Brookfield Companies.

Filed Date: 9/4/14.

Accession Number: 20140904-5221.

Comments Due: 5 p.m. ET 9/25/14.

Docket Numbers: ER11-3417-006.

Applicants: Alta Wind VIII, LLC, Bear Swamp Power Company LLC, LSP Safe Harbor Holdings, LLC, Black Bear Development Holdings, LLC, Black Bear Hydro Partners, LLC, Black Bear SO, LLC, Brookfield Energy Marketing Inc., Brookfield Energy Marketing LP, Brookfield Energy Marketing US LLC, Brookfield Power Piney & Deep Creek LLC, Brookfield Renewable Energy Marketing US, Brookfield Smoky Mountain Hydropower LLC, Coram California Development, L.P., Carr Street Generating Station, L.P., Brookfield White Pine Hydro LLC, Erie Boulevard Hydropower, L.P., Great Lakes Hydro America, LLC, Granite Reliable Power, LLC, Windstar Energy, LLC, Rumford Falls Hydro LLC, Mesa Wind Power Corporation, Hawks Nest Hydro LLC.

Description: Supplement to April 28, 2014 Notice of Change in Status of the Brookfield Companies.

Filed Date: 9/4/14.

Accession Number: 20140904-5224.

Comments Due: 5 p.m. ET 9/25/14.

Docket Numbers: ER11-3460-006.

Applicants: Bayonne Energy Center, LLC.

Description: Notice of Non-Material Change in Status of Bayonne Energy Center, LLC.

Filed Date: 9/17/14.

Accession Number: 20140917-5110.

Comments Due: 5 p.m. ET 10/8/14.

Docket Numbers: ER14-2107-002.

Applicants: Southwest Power Pool, Inc.

Description: Report Filing: 1148 Substitute R18 AEP NITSA NOA (Compliance Filing) Supplemental Submission to be effective N/A.

Filed Date: 9/16/14.

Accession Number: 20140916-5207.

Comments Due: 5 p.m. ET 10/7/14.

Docket Numbers: ER14-2892-000.

Applicants: Midcontinent Independent System Operator, Inc.

Description: § 205(d) rate filing per 35.13(a)(2)(iii): 2014-09-17_SA 2524 ITC-DTE Electric 2nd Rev. GIA (J235) to be effective 9/18/2014.

Filed Date: 9/17/14.

Accession Number: 20140917-5016.

Comments Due: 5 p.m. ET 10/8/14.

Docket Numbers: ER14-2893-000.

Applicants: Southern California Edison Company.

Description: § 205(d) rate filing per 35.13(a)(2)(iii): SGIA & Distribution Service Agreement with Adelanto Greenworks B LLC to be effective 9/18/2014.

Filed Date: 9/17/14.

Accession Number: 20140917-5022.

Comments Due: 5 p.m. ET 10/8/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 17, 2014.
Nathaniel J. Davis, Sr.,
Deputy Secretary.

[FR Doc. 2014-23221 Filed 9-29-14; 8:45 am]

BILLING CODE 6717-01-P